DEPARTMENT OF COMMERCE

National Oceanic and Atmospheric Administration

Science Advisory Board

AGENCY: National Oceanic and Atmospheric Administration (NOAA), Department of Commerce (DOC).

ACTION: Notice of public meeting.

SUMMARY: This notice sets forth the schedule and proposed agenda for a meeting of the Science Advisory Board (SAB). The members will discuss issues outlined in the section on Matters to be considered.

DATES: The meeting is scheduled for September 11, 2023 from 10:30 a.m. to 11:30 a.m. Eastern Daylight Time (EDT). This time and the agenda topics described below are subject to change. For the latest agenda please refer to the SAB website: https://sab.noaa.gov/meeting-agenda/.

ADDRESSES: This is a virtual meeting. The webinar registration links for the meeting may be found on the website at https://sab.noaa.gov/meeting-agenda/.

FOR FURTHER INFORMATION CONTACT: Casey Stewart, Executive Director, SSMC3, Room 11360, 1315 East-West Hwy., Silver Spring, MD 20910; Phone Number: 240-381-0833; Email: noaa.scienceadvisoryboard@noaa.gov; or visit the SAB website at https://sab.noaa.gov/current-meetings/.

SUPPLEMENTARY INFORMATION: The NOAA Science Advisory Board (SAB) was established by a Decision Memorandum dated September 25, 1997, and is the only Federal Advisory Committee with responsibility to advise the Under Secretary of Commerce for Oceans and Atmosphere on strategies for research, education, and application of science to operations and information services. SAB activities and advice provide necessary input to ensure that National Oceanic and Atmospheric Administration (NOAA) science programs are of the highest quality and provide optimal support to resource management.

Status: The September 11, 2023 meeting will be open to public participation with a 5-minute public comment period at 11:25 a.m. EDT. The SAB expects that public statements presented at its meetings will not be repetitive of previously submitted verbal or written statements. In general, each individual or group making a verbal presentation will be limited to a total time of three minutes. Written comments for the September 11, 2023 meeting should be received by the SAB Executive Director's Office (noaa.scienceadvisoryboard@noaa.gov) by September 01, 2023 to provide sufficient time for SAB review. Written comments received by the SAB Executive Director after these dates will be distributed to the SAB, but may not be reviewed prior to the meeting date.

Special Accommodations: This meeting is physically accessible to people with disabilities. Requests for special accommodations may be directed to the Executive Director no later than 12 p.m. on September 01, 2023.

Matters to be Considered: The meeting on September 11, 2023 will consider Revisions the Report on the Review of the Cooperative Institute for Ocean Exploration (OECI). Meeting materials, including work products, will also be available on the SAB website: https://sab.noaa.gov/current-meetings/current-meeting-documents/.

Dated: August 11, 2023.
David Holst,
Chief Financial Officer/Administrative Officer, Office of Oceanic and Atmospheric Research, National Oceanic and Atmospheric Administration.

[FR Doc. 2023-17873 Filed 8-18-23; 8:45 am]

BILLING CODE 3510-KD-P